TENNESSEE VALLEY AUTHORITY

Sunshine Act Meeting

Agency Holding the Meeting: Tennessee Valley Authority (Meeting No. 1554).

Time and Date: 9 a.m. (EDT), September 22, 2004, TVA West Tower Auditorium, 400 West Summit Hill Drive, Knoxville, Tennessee.

Status: Open.

Agenda

Approval of minutes of meeting held on August 18, 2004.

New Business

A—Budget and Financing

A1. Approval of Fiscal Year 2005 TVA Budget.

C—Energy

C1. Delegation of authority to the Executive Vice President, Fossil Power Group, to enter into a contract with Webster County Coal LLC for coal supply to Widows Creek Fossil Plant Units 7 and 8.

E—Real Property Transactions

E1. Grant of a permanent easement to Hallsdale-Powell Utility District for the construction of a raw water intake structure and line, including water transmission and discharge lines, without charge, except for TVA's administrative costs, affecting approximately 1.5 acres of land on Norris Reservoir in Union County, Tennessee, Tract No. XTNR-116W.

E—Real Property Transactions (con't.)

E2. Modification of certain deed restrictions affecting approximately 27 acres of former TVA land, Tract No. XCR-642, S.3X, and sale of a permanent easement affecting approximately 0.5 acre of land, Tract No. XCR-705E, on Chickamauga Reservoir in Hamilton County, Tennessee.

F—Other

F1. Approval to file a condemnation case to acquire an easement and right-of-way affecting 3.17 acres of land in Wilson County, Tennessee, for the North Lebanon Transmission Line.

Information Items

1. Approval of new Risk Management Structure which includes strengthening and formalizing the role of TVA's Management Committee in managing overall enterprise risk, establishment of a new Portfolio Risk Management Committee, and the appointment of Chris S. Mitchell as Chief Risk Officer.

2. Approval to reclassify certain Bellefonte Nuclear Plant assets from the deferred nuclear generating units category to the completed plant category.

FOR FURTHER INFORMATION CONTACT: Please call TVA Media Relations at (865) 632-6000, Knoxville, Tennessee. Information is also available at TVA's Washington Office (202) 898-2999. People who plan to attend the meeting and have special needs should call (865) 632-6000. Anyone who wishes to comment on any of the agenda in writing may send their comments to: TVA Board of Directors, Board Agenda Comments, 400 West Summit Hill Drive, Knoxville, Tennessee 37902.

Dated: September 15, 2004.
Maureen H. Dunn,
General Counsel and Secretary.

[FR Doc. 04-21163 Filed 9-16-04; 10:34 am]

BILLING CODE 8120-08-P